FEDERAL TRADE COMMISSION

[File No. P222100]

HISA Registration Rule

AGENCY: Federal Trade Commission.

ACTION: Notice of Horseracing Integrity and Safety Authority (HISA) proposed rule; request for public comment.

SUMMARY: The Horseracing Integrity and Safety Act of 2020 recognizes a self-regulatory nonprofit organization, the Horseracing Integrity and Safety Authority, which is charged with developing proposed rules on a variety of subjects. Those proposed rules and later proposed rule modifications take effect only if approved by the Federal Trade Commission. The proposed rules and rule modifications must be published in the Federal Register for public comment. Thereafter, the Commission has 60 days from the date of publication to approve or disapprove the proposed rule or rule modification. The Authority submitted to the Commission a proposed rule on Registration on April 25, 2022. The Office of the Secretary of the Commission determined that the proposal complied with the Commission's rule governing such submissions. This document publicizes the Authority's proposed rule text and explanation, and it seeks public comment on whether the Commission should approve or disapprove the proposed rule.

DATES: If approved, the HISA proposed rule would take effect on July 1, 2022. Comments must be received on or before May 31, 2022.

ADDRESSES: Interested parties may file a comment online or on paper by following the instructions in the Comment Submissions part of the SUPPLEMENTARY INFORMATION section below. Write “HISA Registration” on your comment and file your comment online at https://www.regulations.gov under docket number FTC-2022-0028. If you prefer to file your comment on paper, mail your comment to the following address: Federal Trade Commission, Office of the Secretary, 600 Pennsylvania Avenue NW, Suite CC-5610 (Annex B), Washington, DC 20580, or deliver your comment to the following address: Federal Trade Commission, Office of the Secretary, Constitution Center, 400 7th Street SW, 5th Floor, Suite 5610 (Annex B), Washington, DC 20024.

FOR FURTHER INFORMATION CONTACT: Austin King, (202-326-3166), Associate General Counsel for Rulemaking, Office of the General Counsel, Federal Trade Commission, 600 Pennsylvania Avenue NW, Washington, DC 20580.

SUPPLEMENTARY INFORMATION:

Table of Contents

I. Self-Regulatory Organization's Statement of the Background, Purpose of, and Statutory Basis for, the Proposed Rule

a. Background and Purpose

b. Statutory Basis

II. Self-Regulatory Organization's Statement of the Terms of Substance of the Proposed Rule and Discussion of Alternatives

III. Self-Regulatory Organization's Summary of Comments Received Pre-Submission and Its Responses to Those Comments

IV. Legal Authority

V. Effective Date

VI. Request for Comments

VII. Comment and Submissions

VIII. Communications by Outside Parities to the Commissioners or Their Advisors

IX. Self-Regulatory Organization's Proposed Rule Language

Background

The Horseracing Integrity and Safety Act of 2020 ¹ recognizes a self-regulatory nonprofit organization, the Horseracing Integrity and Safety Authority, which is charged with developing proposed rules on a variety of subjects. Those proposed rules and later proposed rule modifications take effect only if approved by the Federal Trade Commission.² The proposed rules and rule modifications must be published in the Federal Register for public comment.³ Thereafter, the Commission has 60 days from the date of publication to approve or disapprove the proposed rule or rule modification.⁴

¹ 15 U.S.C. 3051 through 3060.

² 15 U.S.C. 3053(b)(2).

³ 15 U.S.C. 3053(b)(1).

⁴ 15 U.S.C. 3053(c)(1).

Pursuant to Section 3053(a) of the Horseracing Integrity and Safety Act of 2020 and Commission Rule 1.142, notice is hereby given that, on April 25, 2022, the Horseracing Integrity and Safety Authority (“HISA” or the “Authority”) filed with the Federal Trade Commission a proposed Registration rule and supporting documentation as described in Items I, II, III, IV, and IX below, which Items have been prepared by HISA. The Office of the Secretary of the Commission determined that the filing complied with the Commission's rule governing such submissions.⁵ The Commission publishes this notice to solicit comments on the proposed rule from interested persons.

⁵ 16 CFR 1.140 through 1.144; see also Fed. Trade Comm'n, Procedures for Submission of Rules Under the Horseracing Integrity and Safety Act, 86 FR 54819 (Oct. 5, 2021).

I. Self-Regulatory Organization's Statement of the Background, Purpose of, and Statutory Basis for, the Proposed Rule

a. Background and Purpose

The Horseracing Integrity and Safety Act of 2020 (“Act”) recognizes that the establishment of a national set of uniform standards for racetrack safety and medication control will enhance the safety and integrity of horseracing. The Act specifically states that the Commission, the Authority, and the anti-doping medication control enforcement agency “shall have safety, performance, and anti-doping and medication control authority over covered persons similar to such authority of the State racing commissions before the program effective date.” State racing commissions routinely license participants in horse racing as a prerequisite for participation in the sport. In the same manner, Congress mandated in the Act that the Authority require the registration of Covered Persons: “As a condition of participating in covered races and in the care, ownership, treatment, and training of covered horses, a covered person shall register with the Authority in accordance with rules promulgated by the Authority and approved by the Commission in accordance with section 3053 of this title.” ⁶

⁶ 15 U.S.C. 3054(d)(1).

In requiring the registration of Covered Persons, Congress recognized that the effective regulation of horseracing under the Act requires that Covered Persons participating in Covered Horseraces must be identifiable as individuals to the Authority. This is necessary for a number of reasons, including the need to contact a Covered Person to request information required under Authority rules and to initiate disciplinary proceedings if a Covered Person fails to comply with the rules. To this end, the Registration proposed rule requires a Covered Person to register with the Authority, providing his or her name, contact information, state licensing status, and other pertinent information to the Authority. The Registration proposed rule fulfills Congress's registration mandate by establishing the procedures and rules under which Covered Persons register with the Authority. The Registration proposed rule also requires Covered Persons to ensure that Covered Horses for which they are responsible are registered with the Authority. In registering Covered Horses, Covered Persons must identify the location of the Covered Horse and provide the equine vaccine and health information required by Rule 2143 of the Authority's Racetrack Safety Rules. These requirements serve the vital function of enabling the Authority to quickly locate a Covered Horse if medication testing is required or if a Covered Horse's health and safety becomes a concern and to review the health and vaccine information entered into the Authority's database at the time of registration.

In developing the Registration proposed rule, the Authority considered creating a registration system that paralleled existing state licensing requirements. State licensing schemes routinely require substantial amounts of information from a license applicant, including the applicant's licensing and disciplinary history, citizenship status, criminal history, civil judgments entered against the applicant, and employment status; similar information is often required regarding an applicant's spouse. (Attached as supporting documentation are the licensing rules and applications that the Authority consulted in developing the Registration proposed rule). Ultimately, the Authority opted not to fully duplicate state licensing information requirements, since the Authority may obtain information concerning state licensees from cooperating state racing commissions, the Association of Racing Commissioners International, and The Jockey Club. The Authority's Registration proposed rule therefore creates a narrower and more streamlined process that focuses primarily on requiring Covered Persons to provide and update contact information, to register Covered Horses as necessary, and to agree to comply with the rules, standards, and procedures developed and approved under 15 U.S.C. 3054(c). Certain categories of Covered Persons are required to submit additional information. Veterinarians are required to list the jurisdictions in which they are currently licensed by state veterinary licensing authorities. Jockeys are required to provide the names of the jockey agents who represent them, and jockey agents are in turn required to identify the jockeys they represent. Racetracks are required to identify the majority or controlling interests of the Racetrack and to report any changes in ownership and control to the Authority.

The Registration proposed rule will affect Covered Persons by requiring them to register with the Authority and provide and update the information specified in the proposed rule. The Registration proposed rule also requires Covered Persons to agree to comply with all rules, standards, and procedures developed and approved under 15 U.S.C. 3054(c). As noted previously, the registration process is necessary for the effective regulation of Covered Persons, but it is not overly burdensome and is less extensive than state licensing requirements. The Registration proposed rule affects Covered Horses by requiring a Covered Person to register with the Authority all Covered Horses for which the Covered Person is the Responsible Person. (The Responsible Person concept is more fully described below in Item II of this Notice, the “Self-Regulatory Organization's Statement of the Terms of Substance of the Proposed Rules”). The safety and welfare of Covered Horses will be enhanced by their registration with the Authority, since, as described previously, the Authority will be able to locate a horse for testing and safety purposes and to review the horse health information provided during registration. The registration of Covered Horses and Covered Persons, including racetracks, will further the purpose of enhancing the safety, welfare, and integrity of Covered Persons and Covered Horses, and the safe conduct of Covered Horseraces will be significantly enhanced as a result.

The Registration proposed rule is consistent with the Act in that it complies with and fulfills the Act's specific mandate in 15 U.S.C. 3054(d)(1) to require the registration of Covered Persons with the Authority in accordance with rules promulgated by the Authority and approved by the Commission. The Registration proposed rule provides Covered Persons with the information and guidance necessary to properly register with the Authority, establishes certain exemptions to registration, requires that registration information be updated as necessary, and provides for the registration of Covered Horses.

b. Statutory Basis

The Horseracing Integrity and Safety Act of 2020, 15 U.S.C. 3051 through 3060.

II. Self-Regulatory Organization's Statement of the Terms of Substance of the Registration Proposed Rule and Discussion of Alternatives

The Authority's Registration proposed rule was guided by the purposes and objectives of the Act, in particular the Act's explicit directive in 15 U.S.C. 3054(d)(1) that Covered Persons be required to register with the Authority in accordance with rules promulgated by the Authority and approved by the Commission. The Registration proposed rule establishes the requirements and procedures for the registration of Covered Persons.

Covered Persons are required to register for 12-month periods and, at the end of this period, to review and update registration information previously submitted to the Authority. The Registration proposed rule sets forth the information required for a Covered Person to register, including name and contact information, identification of the states in which the Covered Person is currently licensed, and the occupations for which the Covered Person is licensed. The registration website allows a registrant to upload a copy of a currently valid racing license, from which the computerized registration system extracts information that permits the Authority to verify the registrant's identity and compare it with the databases of The Jockey Club and the Association of Racing Commissioners International. If the user is unable to upload a photo of the racing license, the website will allow the user to manually enter all required information.

Particular provisions have been included regarding certain categories of Covered Persons. Veterinarians are required to identity those states in which they are licensed to practice veterinary medicine. Jockeys are required to provide the names of the jockey agents who represent them, and jockey agents are similarly required to identify the jockeys they represent. Racetracks are defined in the Act as Covered Persons, and are required to provide the racetrack's physical address, mailing address, phone number, and general delivery email address. In addition, racetracks are required to provide the name and contact information for the Director or Officer with the principal responsibility for conducting Covered Horseraces. This person will serve as the Authority's primary point of contact in communicating with the racetrack. Racetracks are also required to identify the majority or controlling ownership interests of the racetrack.

The Registration proposed rule includes a provision exempting from the registration requirement persons performing certain functions at a racetrack. The exemption is set forth in paragraph (f) of the rule as follows: “Vendors of goods or services and racetrack employees or contractors who do not have access to restricted areas of a Racetrack in the ordinary course of carrying out their duties are not required to register with the Authority. For purposes of this rule, mutuel employees are deemed not to have access to restricted areas of a Racetrack.”

The Act, in 15 U.S.C. 3054(d)(2), specifically requires that registration include “an agreement by the covered person to be subject to and comply with the rules, standards, and procedures developed and approved under [15 U.S.C. 3054(c)].” The Registration proposed rule includes a provision that requires a Covered Person to agree to these rules, standards, and procedures, and further states that these rules, standards, and procedures are set forth in the Authority's Rule 8000 Series. The Authority's registration website also requires the Covered Person to affirm this agreement and provides a link to the Rule 8000 Series if the Covered Person desires to read the rules.

The Registration proposed rule further requires that the information provided by a Covered Person be complete and correct, and it requires Covered Persons to update registration information to accurately report any material changes in the information required for registration. The Registration proposed rule also establishes penalties for failure to register with the Authority, for making a knowingly false statement or omission of information in an application for registration with the Authority, and for failure to advise the Authority of material changes in information provided to the Authority as required under any provision in Authority rules.

The Act defines Covered Horse at 15 U.S.C. 3051(4).⁷ A key requirement in the Authority's regulation scheme is that all Covered Horses shall have at all times a Responsible Person who is ultimately responsible for the safety and welfare of the Covered Horse. The definition of Responsible Person was developed by the Racetrack Safety Committee and is set forth in the Racetrack Safety and Accreditation Rule 2000 Series.⁸ The Registration proposed rule requires that Responsible Persons, as defined in Rule 2010 of the Racetrack Safety Rules, shall ensure that Covered Horses are registered with the Authority. The Registration proposed rule specifies the information to be submitted, including the Covered Horse's name and year of birth, the dam of the Covered Horse, the ID number of the Owner of the covered Horse, the horse's location and Vaccine and Health Information required in Rule 2143 of the Racetrack Safety Regulations, and other information reasonably required by the Authority to fulfill its statutory duties under the Act. The Registration proposed rule also makes clear that failure to register a Covered Horse shall constitute a violation and is subject to the sanctions set forth in Rule 8200 and the disciplinary procedures set forth in Rule 8300.

⁷ 15 U.S.C. 3051(4) (“Covered Horse. The term `covered horse' means any Thoroughbred horse, or any other horse made subject to this chapter by election of the applicable State racing commission or the breed governing organization for such horse under section 3054(j) of this title, during the period—(A) beginning on the date of the horse's first timed and reported workout at a racetrack that participates in covered horseraces or at a training facility; and (B) ending on the date on which the Authority receives written notice that the horse has been retired.”).

⁸ Definition of Responsible Person in Rule 2010: “Responsible Person means the individual designated in the registration with the Authority as the Responsible Person in accordance with the following: (1) For a Covered Horse that has not yet performed its first Workout (or competed in a Race, whichever is earlier), the Responsible Person shall be the Owner of the Covered Horse unless the Horse is in training in another country. (2) Once in training, the Responsible Person shall be the licensed Trainer for the Covered Horse. The licensed Trainer's designation as the Responsible Person shall be filed with the Authority. The Trainer designation must be kept current with the Authority. Designation transfers must be in writing and on record with the Authority prior to the effective date of the transfer, except for claiming Races in which transfers must be recorded the same day. (3) If a Covered Horse ceases training for a period of time, the designation may be transferred to the Owner prior to the effective date. (4) If the Owner is an entity, the managing Owner shall be named.”

III. Self-Regulatory Organization's Summary of Comments Received Pre-Submission and Its Responses to Those Comments

As encouraged by the Commission's procedural rule, the Authority, before finalizing this submission to the Commission, made a draft of the Registration proposed rule available to the public for review and comment on the HISA website, https://www.hisausregs.org/. Comments on the Registration proposed rule were received from various individuals and groups in the horseracing industry.

Some commenters urged that accommodation be made for members of the horseracing industry who do not have access to computers or are not computer literate.⁹ The Authority recognizes that this can be a concern. But the registration process is not complex, and assistance is often available from other members of the industry and from horseracing organizations such as the Jockey's Guild. Concerns were also expressed about members of the horseracing industry who do not speak English.¹⁰ The Authority is developing the website to accommodate the many Spanish-speaking members of the horseracing industry. One commenter asked whether a fee will be imposed for registration.¹¹ The Authority will not be imposing registration fees at this time.

⁹ Thoroughbred Horsemen's Association (“THA”) and the Jockey's Guild (“Jockey's Guild”).

¹⁰ THA, Jockey's Guild.

¹¹ THA.

One commenter offered suggested language to be added to the Registration proposed rule, similar to the more extensive information requirements of state licensing applications.¹² Other commenters asked whether the Authority would collaborate with state racing commissions in obtaining information pertaining to HISA registrants that has previously been submitted to state racing commissions.¹³ Some commenters assumed that the HISA registration system would duplicate the state licensing system in many respects. As noted elsewhere in this filing, the Registration proposed rule will not require the extensive licensing, disciplinary, employment, and spousal information that state racing commissions routinely require, and it will therefore not duplicate state licensing information requirements. The Registration proposed rule will focus primarily on the identification of Covered Persons and Covered Horses. The Authority will collaborate with the state racing commissions and other organizations as needed if additional information specific to a particular individual is required.

¹² Racing Officials Accreditation Program.

¹³ THA, Jockey's Guild.

A commenter asked how information concerning horses will be kept current, in view of the fact that horse ownership, custody, and control can change frequently.¹⁴ The commenter asked whether it is realistic to assume that owners and trainers will be in frequent contact with HISA to update ownership and control. The commenter asked whether this information can be obtained directly from the racetracks through their internal systems or InCompass. In response to these comments, the Authority notes that the InCompass system records the name of the trainer at the time of entry and of racing but does not track the identity of the trainer at any other time. The Authority believes that the registration of horses is vital to securing horse safety and welfare and that the requirements placed upon Responsible Persons are not unreasonable or burdensome. The Authority's website registration system has been specifically designed to be user-friendly and to make registration a relatively simple and time-efficient process. The commenter asked several questions as to how personal information will be maintained and the privacy of rights of individual secured. The Authority has developed privacy policies and a terms-and-conditions policy that will govern these matters.

¹⁴ THA.

A commenter asked whether certain classes of individuals are Covered Persons required to register, including personnel working for horsemen's organizations and suppliers who have access to certain areas of the racetrack. In response, the Authority states that the Registration proposed rule and the exemption provision in paragraph 9000(f) of the rule make clear those persons who are required to register. Another commenter offered suggestions to clarify the language in an early draft of the Registration proposed rule concerning persons who are exempted from registration.¹⁵ The suggestions were helpful to the Authority in finalizing the language in the registration exemption.

¹⁵ Colonial Downs.

A commenter asked whether Covered Persons will include jockeys engaged in quarter horse racing.¹⁶ Currently, quarter horse racing is not subject to the Act. Quarter horse jockeys will not be required to register, unless they participate in thoroughbred races.¹⁷

¹⁶ Jockey's Guild.

¹⁷ The Act defines jockey as “a rider or driver of a covered horse in covered horseraces.” 15 U.S.C. 3051(12).

A commenter asked whether the current penalty structure in Rule 8300, which authorizes penalties of up to $50,000.00 for a first violation, can be tailored to the specific violations of the Registration proposed rule, including the failure to update contact information.¹⁸ The commenter noted that some of the penalties would be excessive as applied to a person who fails to update contact information. The Authority believes that the current penalty structure, which offers considerable flexibility in tailoring penalties to the nature of a violation, will not result in excessive penalties for failure to update contact information or other violations.

¹⁸ Jockey's Guild.

A commenter asked whether changes in jockey and agent relationships, which are currently provided to the racing office or stewards at the track where the jockey is riding, can be automatically updated.¹⁹ In response, the Authority states that it would be impractical to attempt to obtain this information from every racetrack in operation in the United States. The HISA website provides a centralized method of obtaining the information, and it is a simple process for jockeys and jockey agents to record and update the required information on the website.

¹⁹ Jockey's Guild.

One commenter asked to be kept informed as to whether horses at the two-year-old training sales will be considered Covered Horses.²⁰ Pursuant to 15 U.S.C. 3051(4) and Rule 2010, a horse is not a Covered Horse until the horse's first timed and reported workout. Workouts at two-year-old training sales are not considered timed and reported workouts. It is possible that the Authority may be addressing this issue in the anti-doping and medication control rules, which will be published at a future date.

²⁰ American Association of Equine Practitioners.

One commenter noted that owners do not always receive photo IDs from the various state racing commissions by which they are licensed.²¹ The HISA registration system does not require that a license contain a photo of the licensee. The commenter also noted that the National Racing License issued by the National Racing Compact is not a physical document that can be uploaded. In response to this comment and to avoid confusion, the Authority deleted a reference to the National Racing License in the Registration proposed rule.

²¹ Maryland Racing Commission.

Several commenters offered suggestions concerning helpful minor adjustments of the language used in early drafts of the Registration proposed rule. These comments were carefully reviewed, and several of the changes were incorporated into the draft Registration proposed rule as it developed into its final form.²²

²² The Jockey Club, Racing Officials Accreditation Program.

IV. Legal Authority

This rule is proposed by the Authority for approval or disapproval by the Commission under 15 U.S.C. 3053(c)(1).

V. Effective Date

If approved by the Commission, this proposed rule will take effect on July 1, 2022.

VI. Request for Comments

Members of the public are invited to comment on the Authority's proposed rule. The Commission requests that factual data on which the comments are based be submitted with the comments. The supporting documentation referred to in the Authority's filing, as well as the written comments it received before submitting the proposed rule to the Commission, are available for public inspection at https://www.regulations.gov under docket number FTC-2022-0028.

The Commission seeks comments that address the decisional criteria provided by the Act. The Act gives the Commission two criteria against which to measure proposed rules and rule modifications: “The Commission shall approve a proposed rule or modification if the Commission finds that the proposed rule or modification is consistent with—(A) this chapter; and (B) applicable rules approved by the Commission.” ²³ In other words, the Commission will evaluate the proposed rule for its consistency with the specific requirements, factors, standards, or considerations in the text of the Act as well as the Commission's procedural rule.

²³ 15 U.S.C. 3053(c)(2).

Although the Commission must approve the proposed rule if the Commission finds that the proposed rule is consistent with the Act and the Commission's procedural rule, the Commission may consider broader questions about the health and safety of horses or the integrity of horseraces and wagering on horseraces in another context: “The Commission may adopt an interim final rule, to take effect immediately, . . . if the Commission finds that such a rule is necessary to protect—(1) the health and safety of covered horses; or (2) the integrity of covered horseraces and wagering on those horseraces.” ²⁴ The Commission may exercise its power to issue an interim final rule on its own initiative or in response to a petition from a member from the public. If members of the public wish to provide comments to the Commission that bear on protecting the health and safety of horses or the integrity of horseraces and wagering on horseraces but do not discuss whether HISA's proposed rule on Registration is consistent with the Act or the applicable rules, they should not submit a comment here. Instead, they are encouraged to submit a petition requesting that the Commission issue an interim final rule addressing the subject of interest. The petition must meet all the criteria established in the Rules of Practice (Part 1, Subpart D); ²⁵ if it does, the petition will be published in the Federal Register for public comment. In particular, the petition for an interim final rule must “identify the problem the requested action is intended to address and explain why the requested action is necessary to address the problem.” ²⁶ As relevant here, the petition should provide sufficient information for the public to comment on, and for the Commission to find, that the requested interim final rule is “necessary to protect—(1) the health and safety of covered horses; or (2) the integrity of covered horseraces and wagering on those horseraces.” ²⁷

²⁴ 15 U.S.C. 3053(e).

²⁵ 16 CFR 1.31; see Fed. Trade Comm'n, Procedures for Responding to Petitions for Rulemaking, 86 FR 59851 (Oct. 29, 2021).

²⁶ 16 CFR 1.31(b)(3).

²⁷ 15 U.S.C. 3053(e).

VII. Comment Submissions

You can file a comment online or on paper. For the Commission to consider your comment, we must receive it on or before May 31, 2022. Write “HISA Registration” on your comment. Your comment—including your name and your State—will be placed on the public record of this proceeding, including, to the extent practicable, on the website https://www.regulations.gov.

Because of the public health emergency in response to the COVID-19 outbreak and the Commission's heightened security screening, postal mail addressed to the Commission will be subject to delay. We strongly encourage you to submit your comments online through the https://www.regulations.gov website. To ensure that the Commission considers your online comment, please follow the instructions on the web-based form.

If you file your comment on paper, write “HISA Registration” on your comment and on the envelope, and mail your comment to the following address: Federal Trade Commission, Office of the Secretary, 600 Pennsylvania Avenue NW, Suite CC-5610 (Annex B), Washington, DC 20580, or deliver your comment to the following address: Federal Trade Commission, Office of the Secretary, Constitution Center, 400 7th Street SW, 5th Floor, Suite 5610 (Annex B), Washington, DC 20024. If possible, please submit your paper comment to the Commission by courier or overnight service.

Because your comment will be placed on the public record, you are solely responsible for making sure that your comment does not include any sensitive or confidential information. In particular, your comment should not contain sensitive personal information, such as your or anyone else's Social Security number; date of birth; driver's license number or other State identification number or foreign country equivalent; passport number; financial account number; or credit or debit card number. You are also solely responsible for making sure your comment does not include any sensitive health information, such as medical records or other individually identifiable health information. In addition, your comment should not include any “[t]rade secret or any commercial or financial information which . . . is privileged or confidential”—as provided in Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c), 16 CFR 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at https://www.regulations.gov—as legally required by FTC Rule 4.9(b), 16 CFR 4.9(b)—we cannot redact or remove your comment, unless you submit a confidentiality request that meets the requirements for such treatment under FTC Rule 4.9(c), and the General Counsel grants that request.

Visit the FTC website to read this document and the news release describing it. The FTC Act and other laws that the Commission administers permit the collection of public comments to consider and use in this proceeding as appropriate. The Commission will consider all timely and responsive public comments it receives on or before May 31, 2022. For information on the Commission's privacy policy, including routine uses permitted by the Privacy Act, see https://www.ftc.gov/siteinformation/privacypolicy.

VIII. Communications by Outside Parties to the Commissioners or Their Advisors

Written communications and summaries or transcripts of oral communications respecting the merits of this proceeding, from any outside party to any Commissioner or Commissioner's advisor, will be placed on the public record. See 16 CFR 1.26(b)(5).

IX. Self-Regulatory Organization's Proposed Rule Language

9000. Registration of Covered Persons and Covered Horses.

(a) Registration Requirement for Covered Persons. A Covered Person as defined by 15 U.S.C. 3051(6) shall register with the Authority in accordance with this rule on the Horseracing Integrity and Safety Authority website at https://portal.hisausapps.org/registration. At the end of each successive twelve-month period, calculated from the date of a Covered Person's initial registration, a Covered Person shall be required to review the accuracy of information previously submitted on the website and to update the information as necessary. An individual who is no longer a Covered Person may request the Authority to have his or her name removed from registration with Authority.

(b) Information Required for Registration of Covered Persons. The following information shall be provided by all Covered Persons who register as individuals with the Authority:

(1) The Covered Person's name, physical address, and permanent mailing address;

(2) The Covered Person's mobile phone number or email address, or both if available;

(3) Identification of all racing jurisdictions in which the Covered Person is currently licensed and the occupation(s) for which the Covered Person is licensed;

(4) An image of at least one currently valid license issued to the Covered Person by a racing regulatory authority; and

(5) Any other information reasonably required by the Authority to fulfill its statutory duties under the Act.

(c) Jockeys and Jockey Agents. Jockeys shall identify the Jockey agents who represent them. Jockey agents shall identify the Jockeys whom they represent.

(d) Veterinarians. A Covered Person who registers as a veterinarian shall also list the jurisdictions in which the registrant is currently licensed by state veterinary licensing authorities.

(e) Racetracks. A Racetrack licensed by a state racing commission to conduct Covered Horseraces as defined by 15 U.S.C. 3051(5) shall register with the Authority, and shall provide and update as necessary the following information:

(1) The name and contact information, including email address and direct phone number, of the Director or Officer with principal responsibility for conducting Covered Horseraces to serve as the contact person for the Racetrack;

(2) The Racetrack's physical address, mailing address, phone number, and general delivery email address; and

(3) Identification of the majority or controlling ownership interests of the Racetrack. Any change in the majority or controlling ownership interests or control of a Racetrack shall constitute a material change and shall be reported to the Authority within 30 days of the change.

(f) Registration exemptions. Vendors of goods or services and racetrack employees or contractors who do not have access to restricted areas of a Racetrack in the ordinary course of carrying out their duties are not required to register with the Authority. For purposes of this rule, mutuel employees are deemed not to have access to restricted areas of a Racetrack.

(g) Agreement with respect to Authority rules, standards, and procedures. Pursuant to 15 U.S.C. 3054(d) of the Act, a Covered Person who registers with the Authority shall agree to be subject to and comply with the rules, standards, and procedures of the Authority developed and approved under 15 U.S.C. 3054(c). These rules, standards, and procedures are set forth in the Rule 8000 Series.

(h) Accuracy of and Changes to Registration Information.

(1) Complete and Correct Information. Information provided by a Covered Person in the course of registration shall be complete and correct.

(2) Material Changes in Registration Information. A Covered Person registered with the Authority shall update registration information to accurately report any material changes in any information required for registration by the Authority.

(3) Penalties. As set forth in Rule 8100(g), failure to register with the Authority, making a knowingly false statement or omission of information in an application for registration with the Authority, or failure to advise the Authority of material changes in information provided to the Authority as required under any provision in Authority rules shall constitute a violation and shall be subject to the sanctions set forth in Rule 8200 and the disciplinary procedures set forth in Rule 8300.

(i) Registration of Covered Horses. Responsible Persons as defined in Rule 2010 shall ensure that Covered Horses as defined by 15 U.S.C. 3051(4) are registered with the Authority. The following information shall be provided by all Covered Persons who register horses with the Authority:

(1) The Covered Horse's name and year of birth;

(2) The name of the dam of the Covered Horse;

(3) The ID number of the Owner of the Covered Horse;

(4) The location of the Covered Horse;

(5) The Vaccine and Health Information required by Rule 2143; and

(6) Any other information reasonably required by the Authority to fulfill its statutory duties under the Act.

(j) Penalty for Failure to Register a Covered Horse. Failure by a Responsible Person to register a Covered Horse with the Authority shall constitute a violation and shall be subject to the sanctions set forth in Rule 8200 and the disciplinary procedures set forth in Rule 8300.

By direction of the Commission.
Joel Christie,
Acting Secretary.

[FR Doc. 2022-10709 Filed 5-16-22; 8:45 am]

BILLING CODE 6750-01-P